DEPARTMENT OF HEALTH AND HUMAN SERVICES

Centers for Disease Control and Prevention

Candidate Chemicals for Possible Inclusion in Future Releases of the National Report on Human Exposure to Environmental Chemicals

AGENCY: Centers for Disease Control and Prevention (CDC), Health and Human Services (HHS).

ACTION: On Monday, October 7, 2002, CDC published final selection criteria and solicited nominations for chemicals or categories of chemicals for analytical development and inclusion in future releases of the National Report on Human Exposure to Environmental Chemicals (the “Report”). (See 67 FR, p. 62477-8, October 7, 2002.) Subsequently, the nominated chemicals were published on CDC's Web site, http://www.cdc.gov/exposurereport. CDC now provides the list of candidate chemicals by priority groups that may be included in future releases of the “Report.” Using the selection criteria and the weighting factors described in the above-mentioned notice, an expert panel of outside reviewers and scientists at CDC's National Center for Environmental Health, Division of Laboratory Sciences, scored nominated individual chemicals or categories of chemicals. On the basis of their final point score, chemicals were placed in one of five priority groups. Listing these chemicals or categories of chemicals in priority groups does not imply that CDC has determined that exposure to them causes adverse human health effects. The nominations enabled CDC to learn which chemicals or categories concerned the public and the scientific community. Chemicals in the priority groups are listed in alphabetical order. Chemicals in Group 1 are more likely, but not guaranteed, to appear in future releases of the “Report” than are chemicals in the remaining groups. In addition to appearing in the Federal Register, the list of candidate chemicals will appear on CDC's Web site at http://www.cdc.gov/exposurereport/candidatechemicals. CDC will publish additional notices in the Federal Register as needed to keep the public abreast of progress.

Candidate Chemicals in Priority Groups

Group 1 [in alphabetical order]

1,3-Butadiene

1-Decanesulfonic acid, 1,2,2,3,3,4,4,5,5,6,6,7,7,8,8,9,9,10, 10, 10-heneicosafluoro, ammonium salt

Aldicarb

Benzo[a]pyrene

Dichlorvos (DDVP)

Diesel exhaust

Dimethoate

Ethylene dibromide

Fonofos

Formaldehyde

Isodrin

Mancozeb

Manganese

Methyl bromide

N-methyl perfluorooctanesulfonamidoacetate (M570)

Octabromodiphenyl ether (OBDE)

Oxamyl

Pentabromodiphenyl ether (PeBDE)—congeners include BDE 82, 116, and 119

Perfluorinated carboxylic acid metabolites of telomer alcohol or telomer acrylate (n = 3)

Perfluorobutane sulfonate (PFBS)

Perfluorooctanoic acid fluoride

Perfluorooctanoic acid (PFOA) ammonium salt*

PFOA ethyl ester

PFOA free acid

PFOA methyl ester

PFOA potassium salt*

PFOA silver salt*

PFOA sodium salt*

Perfluorooctane sulfonate (PFOS) ammonium salt*

PFOS diethanolamine salt*

PFOS lithium salt*

PFOS potassium salt*

Phorate

Phosmet

trans Fatty acids

*PFOA and PFOS measured as a consequence of exposure to any PFOA or PFOS salt.

Group 2 [in alphabetical order]

2,2′,4,4′-Tetrachlorobiphenyl (PCB 47)

2,3,4,4′,5-Pentachlorobiphenyl (PCB 114) 2′,3,4,4′,6-Pentachlorobiphenyl (PCB 123)

Acetaldehyde

Acrolein

Amitrole

Anthracene

Benzo[j,k]-fluorene

Bifenthrin

Butylate

(Carboxymethylamino) methylphosphonic acid (Glyphosate)

Chromium (speciated and total)

Diaminochlorotriazine

Lambda cyhalothrin

Methomyl

Mevinphos

Molinate

N-methyl-N-ethylnitrosamine

N-nitrosodibutylamine

N-nitrosodiethanolamine

N-nitrosodiethylamine

N-nitroso-dimethylamine (NDMA)

N-nitrosodiphenylamine

N-nitrosodipropylamine

Pebulate

Pendimethalin

Pentachloronitrobenzene

Perchlorate

Perfluorodecanesulfonate (PFDS) ammonium salt

Perfluorooctanesulfonamidoacetate (M556)

Propazine

Selenium (speciated and total)

Simizine

Thiram

Tin (speciated and total)

Triclosan

Trifluralin

Group 3 [in alphabetical order]

4,4′-Dichlorobiphenyl (PCB 15)

2,2′,3,3′,4,4′,5,6,6′-Nonachlorobiphenyl (PCB 207)

2,2′,3,3′,4,4′,6-Heptachlorobiphenyl (PCB 171)

2,2′,3,3′,4,4′,6,6′-Octachlorobiphenyl (PCB 197)

2,2′,3,3′,5,5′-Hexachlorobiphenyl (PCB 133)

2,2′,3,4,4,′5-Hexachlorobiphenyl (PCB 137)

2,2′,3,4,4′,5,6′-Heptachlorobiphenyl (PCB 182)

2,2′,3,4,4′,5,6-Heptachlorobiphenyl (PCB 191)

2,2′,3,4,4′,5,6,6′-Octachlorobiphenyl (PCB 204)

2,2′,3,4,4′,6,6′-Heptachlorobiphenyl (PCB 184)

2,2′,3,4,4′,6-Hexachlorobiphenyl (PCB 139)

2,2′,3,4,4′,6′-Hexachlorobiphenyl (PCB 140)

2,2′,3,4,4′-Pentachlorobiphenyl (PCB 85)

2,2′,4,4′,5,6′-Hexachlorobiphenyl (PCB 154)

2,2′,4′,4′,6-Pentachlorobiphenyl (PCB 100)

2,3,3′,4,4′,5,5′,6-Octachlorobiphenyl (PCB 205)

2,3,3′,4,4′,5,6-Heptachlorobiphenyl (PCB 190)

2,3,3′,4′,5,6′-Hexachlorobiphenyl (PCB 163)

2,3,3′,5,5′,6-Hexachlorobiphenyl (PCB 165)

2,3,4,4′,5,6-Hexachlorobiphenyl (PCB 166)

2,3,4,4′,5′,6-Hexachlorobiphenyl (PCB 168)

2,3,4,4′,6-Pentachlorobiphenyl (PCB 119)

2,4,4′,6-Tetrachlorobiphenyl (PCB 75)

3,3′,5,5′-Tetrachlorobiphenyl (PCB 80)

3,4,4′-Trichlorobiphenyl (PCB 37)

Acephthene

Aluminum

Desethyl atrazine

Desisopropyl atrazine

Fenbuconazole

Methiocarb

Pentylphenol

PFOS-related compounds (n = 11; a heterogeneous group)

Radon

Group 4 [in alphabetical order]

Acenaphthylene

Benzo[g,h,i]pyrene

Butachlor

Desethyl S-atrazine

Desisopropyl S-atrazine

Fluoroalkyl ethers (n = 6)

Fluoroalkyl iodides (n = 3)

Formetanate

Gamma, omega-perfluoroalkyl alcohols (n = 3)

3-chloro-4(dichloromethyl)5-hydroxy-2(5H)furanone (MX)

Other phased-out PFCs related to PFOS chemistries (n = 13)

Perfluorinated carboxylic acid metabolites of telomer alcohol or telomer acrylate (n = 3)

Perfluorinated chemicals not assigned to a structural class (n = 2)

Perfluorinated homologues of PFOS and PFOA (n = 2)

Perfluorinated quaternary ammonium chemicals (n = 2)

Perfluoroalkanes (n = 3)

Perfluoroalkyl acids and salts (n = 6)

Perfluoroalkyl alcohols (n = 4)

Perfluoroalkyl carboxylic acid fluorides (n = 2)

Perfluoroalkyl esters (n = 5)

Perfluoroalkyl iodides (n = 6)

Perfluoroalkyl sulfonamides (n = 10)

Perfluoroalkyl sulfonates (n = 75)

Perfluoroalkyl sulfonyl fluorides (n = 4)

Perfluoroglycol acid fluorides (n = 5)

Primicarb

Propiconazole

Propylparaben

Strontium

Tebuconazole

Thiodicarb

Triadimefon

Ziram

Group 5 [in Alphabetical Order]

1,2,4-Trizole

Acetamiprid

Acetochlor ethane sulfonic acid

Acetochlor oxanilic acid

Alachlor ethane sulfonic acid

Alachlor oxanilic acid

Butylparaben

Cerium

Copper

Dimethenamid

Dimethenamid ethane sulfonic acid

Dimethenamid oxanilic acid

Ethylparaben

Hexachlorocyclopentadiene (HCCPD)

Iron

Lanthanum

lmidacloprid

lmidazolinone herbicides (e.g., imazapyr, imazethapyr, imazaquin)

Methylparaben

Metolachlor ethane sulfonic acid

Metolachlor oxanilic acid

Myclobutanil

Nickel

Perfluorinated compounds that the U.S. Food and Drug Administration has approved as indirect food additives (n = 16)

Perfluoroalkyl acids and salts (n = 2)

Scandium

Silver

Sulfonyl urea herbicides (e.g., nicosulfuron, chlorsulfuron, triasulfuron)

Tellurium

Thiamethoxam

Triazole actic acid

Triazole aniline

Vanadium

Some chemicals that were nominated appeared in the second “Report,” which was published in January 2003. In addition, other chemicals or groups of chemicals that were already scheduled for inclusion in either the third or fourth release of the “Report” were not reviewed by the external expert panel and thus do not appear on the priority list. Chemicals or chemical categories that were included in the second “Report,” as well as those already slated for inclusion in future “Reports,” are listed below.

Nominated Chemicals or Chemical Categories Already Measured in the Second “Report”

Metals

Cadmium

Lead

Mercury (inorganic and total)

Tobacco Smoke

Cotinine

Polyaromatic Hydrocarbons (PAHs)

Naphthalene (as the metabolites 1- and 2-naphthol)

Organochlorine Pesticides

Chlordane (as the metabolite oxychlordane)

4,4′-DDE (p,p′-DDE)

4,4′-DDT (p,p′-DDT)

Heptachlor (as the metabolite heptachlor epoxide)

Heptachlor epoxide

Hexachlorobenzene

Lindane (gamma HCH)

Mirex

1,2,4-Trichlorobenzene (as the metabolite 2,4,5-trichlorophenol)

Organophosphate Pesticides

Chlorpyrifos (as the metabolite 3,5,6-trichloro-2-pyridinol)

Phenols

ortho-Phenylphenol

N-Methyl Carbamates

Carbaryl (as the metabolite 1-naphthol)

Carbofuran (as the metabolite carbofuranphenol)

Propoxur (as the metabolite 2-isopropoxyphenol)

Alachlor (as the metabolite alachlor mercapturate)

Triazines

Atrazine (as the metabolite atrazine mercapturate)

Other Herbicides

2,4-Dichlorophenoxyacetic acid (2,4-D)

Polychlorinated Biphenyls (PCBs)

PCB numbers 52, 66, 81, 99, 101, 105, 118, 126, 128, 138, 146, 153, 156, 157, 167, 169, 170, 180, and 183

Nominated Chemicals or Chemical Categories Already Planned for Inclusion in Future “Reports”

Metals

Arsenic (speciated and total)

Methyl mercury

Volatile Organic Compounds (VOCs)

Benzene

1,1,1-Trichloroethane

1,2-Dichlorobenzene

Carbon tetrachloride

Chloroform

Ethylene dichloride

Perchloroethylene

Toluene

Xylenes (o, m, p-isomers)

Polybrominated Compounds

Polybrominated biphenyls (PBBs)

Polybrominated diphenyl ethers (PBDEs)

Tetrabromodiphenyl ether (TeBDE)

Pentabromodiphenyl ether (PeBDE)

Heptabromodiphenyl ether (HpBDE)

Decabromodiphenyl ether (DeBDE)

Hexabromocyclododecane (HBCD)

Tetrabromobisphenol A (TBBP-A)

Organochlorine Pesticides

alpha Hexachlorocyclohexane (HCH)

Aldrin (as the metabolite endrin)

4,4′-DDD (p,p′-DDD; DDD)

Dieldrin

Endosulfan

Endrin

Methoxychlor

Octachlorostyrene

Pentachlorobenzene (as the metabolite pentachlorophenol)

Toxaphene

Chloroacetanilides

Acetochlor (as the metabolite acetochlor mercapturate)

Metolachlor (as the metabolite metolachlor mercapturate)

Phenols

Bisphenol A

Nonylphenol

Octylphenol

Dithiocarbamates

Ethylenethiourea

Pyrethrins and Pyrethroids

Cyfluthrin

Cypermethrin

Deltamethrin

Esfenvalerate

Fenvalerate

Permethrin

Perfluorinated Compounds

Perfluorohexanoic sulfonic acid (PFHS)

Perfluorooctane sulfonate (PFOS), including nominated salt forms

Perfluorooctanoic acid (PFOA), including nominated salt forms

Organophosphate Pesticides

Acephate

Azinophos-methyl (also as dialkyl phosphate metabolites)

Coumaphos (also as dialkyl phosphate metabolites)

Methamidophos

Polychlorinated Biphenyls (PCBs)

PCB numbers 77, 87, 151, 158, 189, 194, 195, 169, 203, 206, and 209

ADDRESSES: Address all correspondence related to this notice to Dorothy Sussman, CDC, National Center for Environmental Health, Division of Laboratory Sciences, Mail Stop F-20, 4770 Buford Highway, Atlanta, Georgia 30341.

SUPPLEMENTARY INFORMATION: CDC publishes the “Report” under the authorities 42 U.S.C. 241 and 42 U.S.C. 242k. The “Report” provides an ongoing assessment using biomonitoring of the exposure of the noninstitutionalized, U.S. civilian population to environmental chemicals. Biomonitoring assesses human exposure to chemicals by measuring the chemicals or their breakdown products in human specimens such as blood or urine. For the “Report,” an environmental chemical means a chemical compound or chemical element present in air, water, soil, dust, food, or other environmental medium. The “Report” provides exposure information about participants in an ongoing national survey known as the National Health and Nutrition Examination Survey (NHANES). This survey is conducted by CDC's National Center for Health Statistics; biomonitoring measurements are conducted by CDC's National Center for Environmental Health. The first “Report,” published in March 2001, gave information about levels of 27 chemicals in the U.S. population. The second “Report,” published in January 2003, provided data on 116 chemicals, including expanded data on the 27 in the first “Report,” and was the most extensive assessment ever of the exposure of the U.S. population to environmental chemicals. The “Report” can be obtained in the following ways: Access http://www.cdc.gov/exposurereport; e-mail ncehdls@cdc.gov; or telephone 1-866-670-6052.

Current plans are to release future reports of exposure of the U.S. population that cover 2-year periods (e.g., 2001-2002; 2003-2004; 2005-2006) and that will include data on more chemicals than the 116 listed in the second “Report.” Over time, CDC will be able to track trends in exposure levels. Future releases also may include additional exposure information for special exposure populations (e.g., children, women of childbearing age, elderly people) from studies examining localized or point sources and from studies of adverse health effects resulting from exposure to varying levels of environmental chemicals.

The Director, Management Analysis and Services Office, has been delegated the authority to sign Federal Register notices pertaining to announcements of meetings and other committee management activities for both the CDC and ATSDR.

Dated: September 24, 2003.
Alvin Hall,
Director, Management Analysis and Services Office, Centers for Disease Control and Prevention.

[FR Doc. 03-24671 Filed 9-29-03; 8:45 am]

BILLING CODE 4163-18-P